DEPARTMENT OF EDUCATION

National Institute on Disability and Rehabilitation Research—Disability and Rehabilitation Research Projects and Centers Program—Disability and Rehabilitation Research Projects

AGENCY: Office of Special Education and Rehabilitative Services, Department of Education.

ACTION: Notice of proposed priority for a National Center for the Dissemination of Disability Research (NCDDR).

SUMMARY: The Assistant Secretary for Special Education and Rehabilitative Services proposes one funding priority for the National Institute on Disability and Rehabilitation Research's (NIDRR) Disability and Rehabilitation Research Projects and Centers Program, Disability and Rehabilitation Research Projects (DRRP). The Assistant Secretary may use this priority for competitions in fiscal year (FY) 2005 and later years. We take this action to focus research attention on areas of national need. We intend this priority to improve rehabilitation services and outcomes for individuals with disabilities.

DATES: We must receive your comments on or before June 6, 2005.

ADDRESSES: Address all comments about this proposed priority to Donna Nangle, U.S. Department of Education, 400 Maryland Avenue, SW., room 6030, Potomac Center Plaza, Washington, DC 20204-2700. If you prefer to send your comments through the Internet, use the following address: donna.nangle@ed.gov.

FOR FURTHER INFORMATION CONTACT: Donna Nangle. Telephone: (202) 245-7462.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Invitation To Comment

We invite you to submit comments regarding this proposed priority.

We invite you to assist us in complying with the specific requirements of Executive Order 12866 and its overall requirement of reducing regulatory burden that might result from this proposed priority. Please let us know of any further opportunities we should take to reduce potential costs or increase potential benefits while preserving the effective and efficient administration of the program.

During and after the comment period, you may inspect all public comments about this proposed priority in room 6030, 550 12th Street, SW., Potomac Center Plaza, Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this proposed priority. If you want to schedule an appointment for this type of aid, please contact the person listed under FOR FURTHER INFORMATION CONTACT.

We will announce the final priority in a notice in the Federal Register. We will determine the final priority after considering responses to this notice and other information available to the Department. This notice does not preclude us from proposing or using additional priorities, subject to meeting applicable rulemaking requirements.

Note: This notice does not solicit applications. In any year in which we choose to use this proposed priority, we invite applications through a notice in the Federal Register. When inviting applications we designate the priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

Note: NIDRR supports the goals of President Bush's New Freedom Initiative (NFI). The NFI can be accessed on the Internet at the following site: http://www.whitehouse.gov/infocus/newfreedom/.

The proposed priority is in concert with NIDRR's Long-Range Plan (Plan). The Plan is comprehensive and integrates many issues relating to disability and rehabilitation research topics. While applicants will find many sections throughout the Plan that support potential research and dissemination to be conducted under the proposed priority, a specific reference is included for the priority presented in this notice. The Plan can be accessed on the Internet at the following site: http://www.ed.gov/rschstat/research/pubs/index.html.

Through the implementation of the NFI and the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Disability and Rehabilitation Research Projects (DRRP) Program

The purpose of the DRRP Program is to plan and conduct research, demonstration projects, training, and related activities to develop methods, procedures, and rehabilitation technology that maximize the full inclusion and integration into society, employment, independent living, family support, and economic and social self-sufficiency of individuals with disabilities, especially individuals with the most severe disabilities and to improve the effectiveness of services authorized under the Rehabilitation Act of 1973, as amended (the Act). DRRPs carry out one or more of the following types of activities, as specified in 34 CFR 350.13 through 350.19: research, development, demonstration, training, dissemination, utilization, and technical assistance.

An applicant for assistance under this program must demonstrate in its application how it will address, in whole or in part, the needs of individuals with disabilities from minority backgrounds (34 CFR 350.40(a)). The approaches an applicant may take to meet this requirement are found in 34 CFR 350.40(b).

Under the DRRP program, we define a utilization activity as relating the research findings to practical applications in planning, policy making, program administration, and delivery of services to individuals with disabilities (34 CFR 350.17). We define a dissemination activity as the systematic distribution of information or knowledge through a variety of ways to potential users or beneficiaries (34 CFR 350.18). Additional information on the DRRP program can be found at: http://www.ed.gov/rschstat/research/pubs/res-program.html#DRRP.

Priority

Background

With this priority, NIDRR plans to fund a National Center for the Dissemination of Disability Research (NCDDR) to serve as the cornerstone for Knowledge Dissemination and Utilization (KDU) and Knowledge Translation (KT) efforts. KDU projects ensure widespread distribution, in usable formats, of practical scientific and technological information generated by research, development, and demonstration projects. KT projects encompass the exchange, synthesis, and ethically sound application of knowledge within a complex system of relationships among researchers and users. (http://www.cihr-irsc.gc.ca/e/7518.html) NIDRR expects KT concepts and activities to increasingly shape the effective dissemination and utilization of disability and rehabilitation research results critical to achieving NIDRR's mission.

Research findings can improve the quality of life of people with disabilities and further their full inclusion into society. These benefits are feasible only if the findings and technologies are available to, known by, and accessible to potential users.

NIDRR is particularly interested in ensuring that information to be disseminated is of high quality and is based on scientifically rigorous research and development. Potential users need to be able to assess the quality of research and development findings and products and the relevance of these findings and products to their particular needs. End-users with limited scientific training, in particular, may need assistance in order to understand competing research claims or to determine the relevance of particular findings to their individual situations. In addition, given the nature of scientific study, practical information often is based on cumulative knowledge, not upon the results of any one study. We encourage potential applicants, when identifying standards and procedures for systematic review of evidence, to examine the work of such organizations as the Campbell Collaboration (http://www.campbellcollaboration.org/), the Cochrane Collaboration (http://www.cochrane.org/), and the Department of Education What Works Clearinghouse (http://www.w-w-c.org/).

NIDRR supports a variety of projects designed to help channel the flow of knowledge gained from rehabilitation research to specific uses. The National Rehabilitation Information Center (NARIC) serves as a clearinghouse or gateway to disability and rehabilitation oriented information organized in a variety of formats for the public, researchers, and NIDRR. NARIC provides interactive information to users through online publications, searchable databases, and timely reference and referral data. ABLEDATA provides information on assistive technology products and rehabilitation equipment available from domestic and international sources. Other NIDRR projects, including Rehabilitation Research and Training Centers, Rehabilitation Engineering Research Centers, Model Burn Injury, Spinal Cord Injury, and Traumatic Brain Injury Systems, and Disability and Rehabilitation Research Projects provide information on a wide range of topics for specific target populations.

NIDRR funds more than 300 centers and projects annually. The NCDDR will serve as the nexus between NIDRR and its grantees. Key activities will include identifying standards and criteria for conducting research syntheses and to guide the dissemination of research and development information and findings; developing partnerships and collaborating with key constituencies and with groups conducting similar work; identifying effective dissemination strategies; and serving as a resource for NIDRR grantees. As the lead project for NIDRR KDU and KT activities, the Center will provide technical assistance to grantees to help them plan and carry out dissemination activities that meet high standards and to help NIDRR move the results of research to the utilization stage. The center will help NIDRR projects prepare, maintain, and communicate evidence-based reports and syntheses in topic areas identified in conjunction with NIDRR.

This project will work closely with NIDRR through a cooperative agreement.

Proposed Priority

The Assistant Secretary for Special Education and Rehabilitative Services proposes to fund a National Center for the Dissemination of Disability Research to serve as a lead center in the area of Knowledge Translation/Knowledge Dissemination and Utilization. This center will ensure that NIDRR constituencies have ready access to high-quality, research-based information that has the potential to improve the lives of individuals with disabilities. The reference to this priority may be found in the Plan, Chapter 8, Knowledge Dissemination. The center must—

(1) Identify standards, guidelines, and methods appropriate for developing evidence-based systematic reviews of disability and rehabilitation research;

(2) Serve as a technical assistance resource to NIDRR grantees to ensure that research studies will meet standards for inclusion in evidence-based systematic reviews;

(3) Develop partnerships with existing collaborations and registries to identify gaps and opportunities and to facilitate the systematic review of disability and rehabilitation research;

(4) Identify and promote the use of evidence-based reviews in topic areas developed in collaboration with NIDRR and its grantees;

(5) Identify, develop, and assess the effectiveness of strategies for dissemination of high quality information to diverse target populations; and

(6) Serve as a technical assistance resource to NIDRR grantees to ensure the use of effective strategies for dissemination of high quality information to diverse target populations.

Executive Order 12866

This NPP has been reviewed in accordance with Executive Order 12866. Under the terms of the order, we have assessed the potential costs and benefits of this regulatory action.

The potential costs associated with the NPP are those resulting from statutory requirements and those we have determined as necessary for administering this program effectively and efficiently.

In assessing the potential costs and benefits—both quantitative and qualitative—of this NPP, we have determined that the benefits of the proposed priority justify the costs.

Applicable Program Regulations: 34 CFR part 350.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.133A, Disability Rehabilitation Research Project)

Program Authority: 29 U.S.C. 762(g) and 764(a).

Dated: April 29, 2005.
John H. Hager,
Assistant Secretary for Special Education and Rehabilitative Services.

[FR Doc. 05-9000 Filed 5-4-05; 8:45 am]

BILLING CODE 4000-01-P